DEPARTMENT OF AGRICULTURE

Forest Service

Request for Proposals: 2016 Wood Innovations Funding Opportunity

AGENCY: Forest Service.

ACTION: Request for proposals.

SUMMARY: The U.S. Forest Service (Forest Service) requests proposals to substantially expand and accelerate wood energy and wood products markets throughout the United States to support forest management needs on National Forest System and other forest lands. The grants and cooperative agreements awarded under this announcement will support the Agricultural Act of 2014 (Pub. L. 113-79), Rural Revitalization Technologies (7 U.S.C. 6601), and the nationwide challenge of disposing of hazardous fuels and other wood residues from the National Forest System and other forest lands in a manner that supports wood energy and wood products markets.

DATES: The application deadline is Wednesday, January 13, 2016 at 5:00 p.m. Eastern Time. The Forest Service will hold an informational Pre-Application Webinar on November 10, 2015 at 1:00 p.m. Eastern Standard Time to present this funding opportunity and answer questions. The link is: https://www.livemeeting.com/cc/usda/join?id=TC9SFQ&role=attend&pw=tK-%287%26Dwt.

FOR FURTHER INFORMATION CONTACT: Information on application requirements, eligibility, and prerequisites are available at www.na.fs.fed.us/werc (see “Wood Innovations”) and www.grants.gov. Individuals who use telecommunication devices for the deaf (TDD) may call the Federal Relay Service (FRS) at 800-877-8339 24 hours a day, every day of the year, including holidays.

Please direct questions regarding this announcement to the appropriate Forest Service Regional Biomass Coordinator listed in the table below. If you have questions that a Coordinator is unable to assist you with, please contact Ed Cesa (ecesa@fs.fed.us or (304) 285-1530) at the Wood Education and Resource Center in Princeton, WV.

Table 1—Forest Service Regional Biomass Coordinators
Forest Service Region 1 (MT, ND, Northern ID, & Northwestern SD), ATTN: Mike Dudley, Forest Service, Northern Region (R1), 324 25th St., Ogden, UT 84401, mdudley@fs.fed.us, (801) 625-5253 | Forest Service Region 2 (CO, KS, NE, SD, & WY), ATTN: Mike Eckhoff, Forest Service, Rocky Mountain Region (R2), 740 Simms St, Golden, CO 80401-4702, mike.eckhoff@colostate.edu, (970) 219-2140.
Forest Service Region 3 (AZ & NM), ATTN: Buck Sanchez, Forest Service, Southwestern Region (R3), 333 Broadway Blvd, SE, Albuquerque, NM 87102, bsanchez@fs.fed.us, (505) 842-3498 | Forest Service Region 4 (Southern ID, NV, UT, & Western WY), ATTN: Mike Dudley, Forest Service, Intermountain Region (R4), 324 25th St., Ogden, UT 84401, mdudley@fs.fed.us, (801) 625-5253.
Forest Service Region 5 (CA, HI, Guam, and Trust Territories of the Pacific Islands), ATTN: Larry Swan, Forest Service, Pacific Southwest Region (R5), 1323 Club Drive, Vallejo, CA 94592, lswan01@fs.fed.us, (707) 562-8917 | Forest Service Region 6 (OR & WA), ATTN: Ron Saranich, Forest Service, Pacific Northwest Region (R6), 1220 SW 3rd Ave., Portland, OR 97204, rsaranich@fs.fed.us, (503) 808-2346.
Forest Service Region 8 (AL, AR, FL, GA, KY, LA, MS, NC, OK, SC, TN, TX, VA, Virgin Islands, & Puerto Rico), ATTN: Dan Len, Forest Service, Southern Region (R8), 1720 Peachtree Rd NW, Atlanta, GA 30309, dlen@fs.fed.us, (404) 347-4034 | Forest Service Region 9/Northeastern Area (CT, DL, IL, IN, IA, ME, MD, MA, MI, MN, MO, NH, NJ, NY, OH, PA, RI, VT, WV, WI), ATTN: Lew McCreery, Forest Service, Northeastern Area—S&PF, 180 Canfield St, Morgantown, WV 26505, lmccreery@fs.fed.us, (304) 285-1538.
Forest Service Region 10 (Alaska), ATTN: Daniel Parrent, Forest Service, Alaska Region (R10), 161 East 1st Avenue, Door 8, Anchorage, AK 99501, djparrent@fs.fed.us, (907) 743-9467 |

Grant Program Overview

Available Funding: The Forest Service plans to award approximately $5 million under this announcement. The maximum for each award is generally $250,000; however, the Forest Service may consider awarding more than $250,000 to a proposal that shows far reaching or significant impact. All awards are based on availability of funding.

Eligible Applicants: Eligible applicants are for-profit entities; State, local, and Tribal governments; school districts; communities; not-for-profit organizations; or special purpose districts (e.g., public utilities districts, fire districts, conservation districts, or ports).

Matching Requirements: A minimum 35:65 match is required. That is, an applicant must contribute at least 35 percent of the total project cost. The Forest Service's share of the project will be no more than 65 percent of the total. The applicant's match or contribution must come from non-Federal source funds. The match may include cash or in-kind contributions. All matching funds must be directly related to the proposed project. All organizations that provide matching funds (other than the applicant) must submit letters of support specifying the amount of cash or in-kind services to be provided.

Deadline: Wednesday, January 13, 2016 at 5:00 p.m. Eastern Standard Time.

Award Information: Grants and Cooperative Agreements awarded under this announcement are typically awarded for two to three years. Projects of greater complexity may be awarded for up to five years. The Forest Service will notify a recipient if their proposal is selected for an award and indicate whether any additional forms or information is required and an estimate of when they may proceed. The Federal government will incur no legal obligation until appropriated funds are available and a Forest Service Grant Officer returns a fully executed award letter to a successful applicant.

Note: An award to a for-profit entity will generate an Internal Revenue Service (IRS) Form 1099 Miscellaneous Income that will be filed with the IRS and provided to the awardee. The Forest Service expresses no opinion on the taxability, if any, of the awarded grant funds.

Reporting Requirements: A Federal Financial Report (SF-425) and progress report are required on an annual calendar year basis and must be submitted to the appropriate Grant Officer. A detailed final report is required and should include: (1) Final Summary Report (brief overview of accomplishments of the goals and objectives described in the approved award); and (2) Final Accomplishment Report (includes assessments, reports, case studies, and related documents that resulted from project activities). Ten percent of awarded funds will be withheld until an acceptable final report is approved by the Forest Service. Forest Service will post final reports on the Wood Education and Resource Center Web site.

Wood Innovations Grant Categories

The Forest Service seeks proposals that significantly stimulate or expand wood energy and wood products markets that support the long-term management of National Forest System and other forest lands.

This Request for Proposals focuses on the following priorities to:

• Reduce hazardous fuels and improve forest health on National Forest System and other forest lands;

• Reduce costs of forest management on all land types; and

• Promote economic and environmental health of communities.

Equipment purchases, basic research, and construction will not be funded under this funding opportunity. Funding will be awarded in two separate categories.

Grant Category 1: Expansion of Wood Energy Markets

The intent of this category is to stimulate, expand, or support wood energy markets that depend on forest residues or forest byproducts generated from all land types. Preference will be given to projects that make use of wood generated from National Forest System and other forest lands with high wildfire risk.

The most competitive proposals will generate immediate and measurable on-the-ground results or substantially stimulate immediate adoption of wood energy. Proposals incorporating technologies that are not commercially proven will not be competitive under this category.

Grant Category 1 is separated into two main project types:

1. Wood Energy Markets

Expand or support wood energy markets that use wood residues for heating, cooling, or electricity production. Projects can include, but are not limited to the following:

a. Develop a cluster of wood energy projects in a geographic area or specific sector (e.g., prisons, hospitals, universities, manufacturing sector, or industrial sector).

b. Evaluate and recommend a commercial, institutional, or industrial sector most suitable for wood energy that has not traditionally used wood for heating, cooling, or electricity.

c. Conduct a feasibility assessment of several municipalities that would be ideal candidates to construct a district wood energy system for heating, cooling, and electricity.

d. Develop innovative financing or new funding opportunities for wood energy development.

e. Overcome market barriers and stimulate expansion of wood energy in the commercial sector.

f. Establish a Statewide Wood Energy Team that provides technical, financial, and outreach assistance for wood energy projects. Note: Proposals to establish a Statewide Wood Energy Team in the following States will not be considered because a team is already in place: AK, AZ, CA, CO, ID, KY, MA, MI, MN, MT, NH, NM, NY, OR, PA, VA, VT, WA, WI, and WV.

The above list of examples is not exhaustive and merely illustrates the types of projects that can be considered.

2. Wood Energy Projects

Complete engineering designs, cost analyses, permitting, or other requirements that are necessary in the later stages of wood energy project development to secure financing.

Note: Preference will be given to proposals that bundle or address multiple wood energy projects. Projects in early project scoping or planning that need preliminary analyses, pre-feasibility assessments, or other assistance that is typical in the early phases of project development will not be competitive.

Grant Category 2: Expansion of Wood Products Markets

The intent of this category is to promote markets that create or expand the demand for non-energy based wood products. Preference will be given to projects that support commercial building markets or other markets that use innovative wood products. Wood energy projects will not be considered under this category because those projects can apply for funding under Grant Category 1. Demonstration projects and applied research will be considered but applicants are strongly encouraged to first consult with their designated Forest Service Regional Biomass Coordinator to determine whether such projects will be competitive.

Projects can include, but are not limited to the following:

a. Develop training or perform outreach about innovative wood construction materials or building designs that incorporate wood into commercial construction (e.g., structural round wood or cross-laminated timbers).

b. Develop a regional or national strategy to stimulate market demand for wood technology in targeted sectors, especially commercial construction.

c. Establish statewide wood action teams that focus on using wood in support of Forest Service Regional/Area priorities and State Forest Action Plans.

d. Facilitate establishment of new building codes to support expanded use of wood materials.

e. Showcase the quantified environmental and economic benefits of using wood as a green building material in an actual commercial building and the projected benefits achieved if replicated across the United States based on commercial construction market trends.

f. Develop a carbon trading market protocol for wood building materials that accounts for the fossil carbon offset from using wood.

g. Develop manufacturing capacity and markets for wood products that support forest ecosystem restoration.

h. Complete engineering designs, cost analyses, permitting, or other requirements for the final stages of commercial construction projects that use wood as a primary building material.

The above list of examples is not exhaustive and merely illustrates the types of projects that can be considered.

Application Process

Application information is available at the following two Web sites:

• http://www.na.fs.fed.us/werc/ (on right side of Web page under “Wood Innovations”)

• www.grants.gov (Search: Opportunity: USDA-FS-WERC-2016 or CFDA 10.674 Wood Utilization Assistance, Agency Forest Service);

Applicants should consult with the appropriate Forest Service Regional Biomass Coordinator to develop proposals (see Table 1 of Contacts section). Proposals should align with Forest Service Regional/Area priorities and State Forest Action Plans.

Application Submission: Applications must be submitted by email to the respective Forest Service Regional Biomass Coordinator listed in the Contacts section of this announcement by 5:00 p.m. Eastern Time on January 13, 2016. No Exceptions. Paper submittals will not be accepted.

Note: Your Forest Service Region is generally determined by the State where the majority of the proposed work will be conducted. Two Forest Service regions may exist in one State. You can locate your Forest Service region at: http://www.fs.fed.us/maps/products/guide-national-forests09.pdf. Consult with a Forest Service Regional Biomass Coordinator if you are not certain which Region applies.

Application Format and Content: Each submittal must consist of two separate PDF files, preferably in a searchable format, as follows:

• PDF file #1: Application Part 1 (Cooperator Contact Information) and Application Part 2 (Proposal and Appendices).

• PDF file #2: Application Part 3 (Required Financial Forms, which must include SF-424, SF-424A, SF-424B, AD-1047, AD-1049 (or AD-1052 for States and State agencies), AD-3030, FS-1500-35 (certificate regarding lobbying activities), and Financial Capability Questionnaire FS-1500-22).

Note: The applicant must include a DUNS number and register at www.sam.gov to receive a federal award.

Application Parts 1, 2, and 3 can be found at http://www.na.fs.fed.us/werc on right side of Web page under “Wood Innovations.” Submit all application information at the same time.

The Proposal in Application Part 2 must be presented on 8.5 × 11 single-spaced and numbered pages with 1-inch margins using 12-point Times New Roman font. The Proposal cannot exceed 11 pages and must include items #1 through #5 as listed below:

1. Project Narrative (4 Pages)

• The project narrative should provide a clear description and anticipated impact of the project, including the following where appropriate: (1) Magnitude of the impact on markets generating renewable energy or creating non-energy wood products; (2) Benefits to National Forest System lands (e.g., tons of biomass removed in fire-prone areas, air quality improvements, acres treated, cost savings for forest management, or carbon offsets); (3) Source of biomass removed from forested areas broken out by land ownership; and (4) Job creation and retention.

• Describe methods and reasoning for selecting areas of focus (e.g., geographic clusters, sector-based clusters, or larger projects to be targeted).

• Specify the number of years requested for the award.

2. Program of Work (3 Pages)

• Describe statement of need, goals, and objectives.

• Describe methods to accomplish goals and objectives.

• Specify projected accomplishments, timeline, and deliverables.

• Discuss communication and outreach activities that create social acceptance in communities or markets where projects are targeted.

• Describe monitoring plan, which must include annual and final reports.

• Discuss all relevant aspects of the project, such as preliminary assessments, resource inventories, and success stories.

• Describe projected impact on wood energy or wood products markets.

3. Budget Summary and Justification in Support of SF-424A (2 Pages)

• Address proposed expenditures for each key activity or category within the proposed program of work.

• Specify cash and in-kind match, other Federal funds, and staff time that will help accomplish the program of work.

• Describe the fee structure if fee-for-services is planned.

4. Qualifications of Staff, Organization, and Partners (1.5 Pages)

• Include key personnel qualifications, certifications, and relevant experience.

• Describe experience and success of any prior funded Forest Service projects.

5. Project Outcomes, Annual Progress Reports, and Final Reports (0.5 Pages)

• List anticipated project outcomes and accomplishments.

• Describe types of reports, documents, and success stories that will be provided at the end of the project for posting on the Wood Education and Resource Center Web site in addition to mandatory reporting.

Documentation exceeding the designated page limit requirements for any given section will not be considered.

Appendices should be well organized with an index so that a reviewer can readily find information of interest. Include only relevant information in the Appendices that will help a review panel better understand and evaluate your project. Below are examples of information to include in the Appendices:

• Feasibility Assessments.

• Woody Biomass Resource Supply Assessment.

• If appropriate, quotes for Professional Engineering Services and rationale for selection of contractor, if already selected.

• Letters of Support from Partners, Individuals, or Organizations, especially those playing a key role or providing matching funds. These letters should display the degree of collaboration occurring between the different entities engaged on the project.

• Miscellaneous, such as schematics, engineering designs, or executive summaries of reports.

• List of all other Federal funds received for this project within the last 3 years (include agency, program name, and dollar amount).

Letters of Support to include in Appendix: Applicants are strongly encouraged to include letters of support from partners closely engaged on the project, especially Forest Service units if National Forest System Lands will directly benefit from the project. All organizations that provide matching funds (other than the applicant) must submit letters of support specifying the amount of cash or in-kind services to be provided. These letters of support must be included in the application package.

Proposal Evaluation

All applications will be screened to ensure basic compliance with the directions in this announcement. Applications not following the directions will be disqualified without appeal. A panel of Federal experts and their designees will perform a thorough technical review of eligible proposals and evaluate the proposals according to the criteria outlined in this announcement. Regional Foresters and the Northeastern Area Director will rank proposals according to regional and area priorities. The panel, Regional Foresters, and Northeastern Area Director will submit their recommendations to the Forest Service national leadership for a final decision.

Evaluation Criteria and Point System: Reviewers will assign points to each proposal based on its ability to meet the following criteria. A maximum of 100 points can be earned per proposal.

• Alignment with goals and objectives of this Request for Proposals. (20 points)

• Technical approach, deliverables, and timetable. (30 points)

• Impact on forest management, wood energy markets, or wood products markets. (20 points)

• Qualifications, relevant experience, and roles of team members. (20 points)

• Leveraging of federal funds. (10 points)

Dated: October 2, 2015.
Patricia F. Hirami,
Associate Deputy Chief, State and Private Forestry.

[FR Doc. 2015-26533 Filed 10-19-15; 8:45 a.m.]

BILLING CODE 3411-15-P